MILLENNIUM CHALLENGE CORPORATION

[MCC FR 21-11]

Notice of Open Meeting

AGENCY: Millennium Challenge Corporation.

ACTION: Notice.

SUMMARY: In accordance with the requirements of the Federal Advisory Committee Act, the Millennium Challenge Corporation (MCC) Economic Advisory Council was established as a discretionary advisory committee on October 5, 2018. Its charter was renewed for a second term on October 1, 2020. The MCC Economic Advisory Council serves MCC solely in an advisory capacity and provides advice and guidance to MCC economists, evaluators, leadership of the Department of Policy and Evaluation, and senior MCC leadership regarding relevant trends in development economics, applied economic and evaluation methods, poverty analytics, as well as modeling, measuring, and evaluating development interventions. In doing so, the MCC Economic Advisory Council helps sharpen MCC's analytical methods and capacity in support of the agency's economic development goals. It also serves as a sounding board and reference group for assessing and advising on strategic policy innovations and methodological directions at MCC.

DATES: Friday, November 5, 2021, from 10:00 a.m.-12:00 p.m. EDT.

ADDRESSES: The meeting will be held via conference call and/or WebEx.

FOR FURTHER INFORMATION CONTACT: Mesbah Motamed, 202.521.7874 MCCEACouncil@mcc.gov or visit www.mcc.gov/about/org-unit/economic-advisory-council.

SUPPLEMENTARY INFORMATION: Agenda. During this meeting of the MCC Economic Advisory Council, members will receive an overview of MCC's work and the context and function of the MCC Economic Advisory Council within MCC's mission. The MCC Economic Advisory Council will also discuss issues related to MCC's core functions, including the following topics: (i) Incorporating resilience to shocks in MCC's analytic and investment priorities; (ii) understanding the role of digital technologies in improving resilience and accelerating economic growth.

Public Participation: The meeting will be open to the public. Members of the public may file written statement(s) before or after the meeting. If you plan to participate, please submit your name and affiliation no later than Friday, October 29, 2021 to MCCEACouncil@mcc.gov to receive dial-in instructions and to be placed on an attendee list.

(Authority: Federal Advisory Committee Act, 5 U.S.C. App.)

Dated: October 13, 2021.
Thomas G. Hohenthaner,
Acting VP/General Counsel and Corporate Secretary.

[FR Doc. 2021-22635 Filed 10-15-21; 8:45 am]

BILLING CODE 9211-03-P